DEPARTMENT OF VETERANS AFFAIRS

Loan Guaranty: Maximum Allowable Attorney Fees

AGENCY: Department of Veterans Affairs (VA).

ACTION: Notice; correction.

SUMMARY: On July 31, 2015, the Department of Veterans Affairs published a notice in the Federal Register providing information to participants in the Department of Veterans Affairs (VA) Home Loan Guaranty program concerning the maximum attorney fees allowable in calculating the indebtedness used to determine the guaranty claim payable upon loan termination (80 FR 45718). This notice contained two administrative errors.

DATES: These corrections will be effective as of August 12, 2015.

FOR FURTHER INFORMATION CONTACT: Mr. Andrew Trevayne, Assistant Director for Loan and Property Management (261), Loan Guaranty Service, Department of Veterans Affairs, Washington, DC 20420, (202) 632-8795 (Not a toll-free number).

SUPPLEMENTARY INFORMATION: In the Federal Register of July 31, 2015, FR Doc. # 2015-18762, the table representing the Secretary's determination of the reasonable and customary cost of legal services needs to be replaced with the following table:

Jurisdiction | VA non-judicial foreclosure 1 2 | VA judicial foreclosure 1 2 | Deed-in-lieu of foreclosure
Alabama | $1325 | N/A | $350
Alaska | 1600 | N/A | 350
Arizona | 1350 | N/A | 350
Arkansas | 1400 | N/A | 350
California | 1350 | N/A | 350
Colorado | 1650 | N/A | 350
Connecticut | N/A | 2450 | 350
Delaware | N/A | 1800 | 350
District of Columbia | 1200 | 2300 | 350
Florida | N/A | 2800 | 350
Georgia | 1325 | N/A | 350
Guam | 1600 | N/A | 350
Hawaii | N/A | 2950 | 350
Idaho | 1150 | N/A | 350
Illinois | N/A | 2300 | 350
Indiana | N/A | 2050 | 350
Iowa | 850 | 1880 | 350
Kansas | N/A | 1800 | 350
Kentucky | N/A | 2250 | 350
Louisiana | N/A | 1900 | 350
Maine | N/A | 2300 | 350
Maryland | 2400 | N/A | 350
Massachusetts | N/A | 2550 | 350
Michigan | 1425 | N/A | 350
Minnesota | 1450 | N/A | 350
Mississippi | 1200 | N/A | 350
Missouri | 1350 | N/A | 350
Montana | 1150 | N/A | 350
Nebraska | 1150 | N/A | 350
Nevada | 1525 | N/A | 350
New Hampshire | 1350 | N/A | 350
New Jersey | N/A | 2975 | 350
New Mexico | N/A | 2000 | 350
New York—Western Counties ³ | N/A | 2675 | 350
New York—Eastern Counties | N/A | 3475 | 350
North Carolina | 1575 | N/A | 350
North Dakota | N/A | 1750 | 350
Ohio | N/A | 2250 | 350
Oklahoma | N/A | 2000 | 350
Oregon | 1350 | 2600 | 350
Pennsylvania | N/A | 2350 | 350
Puerto Rico | N/A | 2050 | 350
Rhode Island | 1725 | N/A | 350
South Carolina | N/A | 1650 | 350
South Dakota | N/A | 2200 | 350
Tennessee | 1200 | N/A | 350
Texas | 1325 | N/A | 350
Utah | 1350 | N/A | 350
Vermont | N/A | 2250 | 350
Virgin Islands | N/A | 1800 | 350
Virginia | 1350 | N/A | 350
Washington | 1350 | N/A | 350
West Virginia | 1150 | N/A | 350
Wisconsin | N/A | 2000 | 350
Wyoming | 1150 | N/A | 350
¹ When a foreclosure is stopped due to circumstances beyond the control of the holder or its attorney (including, but not limited to bankruptcy, VA-requested delay, property damage, hazardous conditions, condemnation, natural disaster, property seizure, or relief under the Servicemembers Civil Relief Act) and then restarted, VA will allow a $350 restart fee in addition to the base foreclosure attorney fee. This fee recognizes the additional work required to resume the foreclosure action, while also accounting for the expectation that some work from the previous action may be utilized in starting the new action.
² VA will allow attorney fees of $650 (Chapter 7) or $850 (initial Chapter 13) for obtaining bankruptcy releases directly related to loan termination. For additional requests for relief filed under each bankruptcy chapter, VA will allow an additional $250.
³ Western Counties of New York for VA are: Allegany, Cattaraugus, Chautauqua, Erie, Genesee, Livingston, Monroe, Niagara, Ontario, Orleans, Steuben, Wayne, Wyoming, and Yates. The remaining counties are in Eastern New York.

Second, in the last sentence of the Supplementary Information section of the published Notice, on page 1, reference was made to Paragraph (b)(5)(ii) of section 34.4314. Change this reference to section 36.4314 vs. 34.4314.

Dated: August 6, 2015.
Michael Shores,
Chief, Impact Analyses, Office of Regulation Policy & Management, Office of the General Counsel, Department of Veterans Affairs.

[FR Doc. 2015-19771 Filed 8-11-15; 8:45 am]

BILLING CODE 8320-01-P